DEPARTMENT OF LABOR

Office of the Secretary

Submission for OMB Review: Comment Request

April 19, 2007.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained from RegInfo.gov at http://www.reginfo.gov/public/do/PRAMain or by contacting Darrin King on 202-693-4129 (this is not a toll-free number)/e-mail: king.darrin@dol.gov.

Comments should be sent to Office of Information and Regulatory Affairs, Attn: OMB Desk Officer for the Mine Safety and Health Administration (MSHA), Office of Management and Budget, Room 10235, Washington, DC 20503, Telephone: 202-395-7316/Fax: 202-395-6974 (these are not a toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension without change of currently approved collection.

Title: Application for a Permit to Fire More than 20 Boreholes for the use of Non-permissible Blasting Units, Explosives and Shot-firing Units.

OMB Number: 1219-0025.

Form Number: None.

Type of Response: Reporting and Third-party disclosure.

Affected Public: Private Sector: Business or other for-profit (mining industry).

Number of Respondents: 50.

Estimated Number of Annual Responses: 107.

Average Response Time: 1 hour to prepare and submit a permit application and 20 minutes to prepare and post a notice warning that an un-disposed misfire is present.

Estimated Annual Burden Hours: 69.

Total Annualized capital/startup costs: $0.

Total Annual Costs (operating/maintaining systems or purchasing services): $635.

Description: Under Section 313 of the Federal Mine Safety and Health Act of 1977 (Mine Act), 30 U.S.C. 873, any explosives used in underground coal mines must be permissible. The Mine Act also provides that under safeguards prescribed by the Secretary of Labor, a mine operator may permit the firing of more than 20 shots and the use of non-permissible explosives in sinking shafts and slopes from the surface in rock. Title 30 CFR 75.1321 outlines the procedures by which a permit may be issued for the firing of more than 20 boreholes and/or the use of non-permissible shot-firing units in underground coal mines. In those instances in which there is a misfire of explosives, 30 CFR 75.1327 requires that a qualified person post each accessible entrance to the affected area with a warning to prohibit entry. Title 30 CFR 77.1909-1 outlines the procedures by which a coal mine operator may apply for a permit to use non-permissible explosives and/or shot-firing units in the blasting of rock while sinking shafts or slopes for underground coal mines.

To obtain a permit, the mine operator files an application with the MSHA district manager in the district in which the mine is located. Applications may be mailed or faxed, using company letterhead stationery and should contain the name and address of the mine, the designated active workings in which the units will be used and the approximate number of shots to be fired, the period of time during which such units are to be used, the nature of the development or construction for which they will be used, a plan to protect miners, a statement of the specific hazards anticipated, and the method to be employed to avoid the dangers anticipated.

The district manager may permit the firing of more than 20 boreholes of permissible explosives in a round where he has determined that it is necessary to reduce the overall hazard to which miners are exposed during underground blasting. The district manager issues a permit to use non-permissible items when he finds that a permissible shot-firing unit does not have adequate blasting capacity and the use of such permissible units will create development or construction hazards. As a condition of use, the district manager may include safeguards, in addition to those proposed by the operator, that he determines are necessary to protect the safety of the miners at the time the blasting is permitted collection.

MSHA uses the information requested to issue a permit to the mine operator for the use of non-permissible explosives and/or shot-firing units. The permit informs mine management and the miners of the steps to be employed to protect the safety of any person exposed to such blasting while using non-permissible items.

Darrin A. King,
Acting Departmental Clearance Officer.

[FR Doc. E7-7823 Filed 4-24-07; 8:45 am]

BILLING CODE 4510-43-P